DEPARTMENT OF COMMERCE

[I.D. 012403A]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration.

Title: NOAA Community-based Restoration Program Progress Reports.

Form Number(s): None.

OMB Approval Number: None.

Type of Request: Regular submission.

Burden Hours: 1,125.

Number of Respondents: 150.

Average Hours Per Response: 15 hours.

Needs and Uses: The NOAA Community-based Restoration Program (CRP) involves communities in local marine and estuarine habitat restoration. Each fiscal year, NOAA publishes in the Federal Register two notices of availability of financial assistance inviting applications from persons who are interested in obtaining grants to carry out community-based habitat restoration activities through individual projects or restoration partnerships. It is critical to track the status and success of funded projects to provide accountability for the CRP and NOAA on the expenditure of federal restoration funds as well as to respond quickly to inquiries from NOAA management, congressional members, and constituents. Successful applicants are now required to submit periodic performance reports and a final report for each award. NOAA proposes to require that specific information be provided in these reports.

Affected Public: Not-for-profit institutions; business or other for-profit organizations; and State, Local, or Tribal Government.

Frequency: On occasion, semi-annually.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: January 23, 2003.
Gwellnar Banks,
Management Analyst, Office of the Chief Information Officer.

[FR Doc. 03-2032 Filed 1-28-03; 8:45 am]

BILLING CODE 3510-22-S

[NOTICE]